DEPARTMENT OF AGRICULTURE

Food and Nutrition Service

Agency Information Collection Activities: Proposed Collection; Comment Request—Report of Disaster Food Stamp Program Benefit Issuance and Report of Commodity Distribution for Disaster Relief

AGENCY: Food and Nutrition Service, USDA.

ACTION: Notice.

SUMMARY: In accordance with the Paperwork Reduction Act of 1995, this notice invites the general public and other public agencies to comment on proposed information collections. The proposed collection is a revision of a collection currently approved for the Food Stamp Program and the Food Distribution Program and revises the collection into two reports that provide information specific to each program.

DATES: Written comments must be received on or before March 3, 2008.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Brenda Lisi, Director, Office of Emergency Management and Food Safety, Food and Nutrition Service, U.S. Department of Agriculture, 3101 Park Center Drive, Room 910, Alexandria, VA 22302. Comments may also be submitted via fax to the attention of Brenda Lisi at 703-305-2908 or via e-mail to Brenda.lisi@fns.usda.gov.

All written comments will be open for public inspection at the office of the Food and Nutrition Service during regular business hours (8:30 a.m. to 5 p.m., Monday through Friday) at 3101 Park Center Drive, Alexandria, Virginia 22302, Room 910.

All responses to this notice will be summarized and included in the request for OMB approval. All comments will be a matter of public record.

FOR FURTHER INFORMATION CONTACT: Requests for additional information or copies of this information collection should be directed to Brenda Lisi, (703) 305-2041.

SUPPLEMENTARY INFORMATION: Title: Report of Food Stamp Benefit Issuances and Commodity Distribution for Disaster Relief.

OMB Number: 0584-0037.

Form Number: FNS 292-A and 292-B.

Expiration Date: 04/30/2008.

Type of Request: Revision of currently approved collection.

Abstract: Food assistance in disaster situations is authorized under section 32 of the Act of August 24, 1935 (7 U.S.C. 612c); section 416 of the Agricultural Act of 1949 (7 U.S.C. 1431); section 709 of the Food and Agriculture Act of 1965 (7 U.S.C. 1446a-1); section 4(a) of the Agriculture and Consumer Protection Act of 1973 (7 U.S.C. 612c note); and by sections 412 and 413 of the Robert T. Stafford Disaster Relief and Emergency Assistance Act (42 U.S.C. 5179, 5180). Program implementing regulations are contained in 7 CFR part 250. In accordance with 7 CFR 250.43(f), distributing agencies shall provide a summary report to the agency within 45 days following termination of the disaster assistance. FNS proposes to divide the disaster relief reporting into two separate forms, FNS 292-A, “Report of Commodity Distribution for Disaster Relief,” and FNS-292-B, “Report of Food Stamp Issuance for Disaster Relief.” The separate forms will allow State Agencies to report on the specific disaster relief provided in the detail required by FNS and in a more user-friendly format.

Affected Public: State agencies that administer FNS disaster food relief activities.

Estimated Number of Respondents: 55.

Number of Responses per Respondent: The number of responses is estimated to be 1 response per State agency per year per form.

Estimated Time per Response: Public reporting burden for this collection of information is estimated to average 25 minutes per respondent per response.

Estimated Total Annual Burden: 46.2 hours.

Dated: December 19, 2007.
Roberto Salazar,
Administrator, Food and Nutrition Service.

[FR Doc. E7-25464 Filed 12-31-07; 8:45 am]

BILLING CODE 3410-30-P